DEPARTMENT OF TRANSPORTATION

Coast Guard

[USCG-2002-13028]

Chemical Transportation Advisory Committee

AGENCY: Coast Guard, DOT.

ACTION: Notice of meeting.

SUMMARY: The Chemical Transportation Advisory Committee (CTAC) will meet to discuss various issues relating to the marine transportation of hazardous materials in bulk. These meetings will be open to the public.

DATES: CTAC will meet on Tuesday, October 8, 2002, from 1 p.m. to 4 p.m. and on Wednesday, October 9, 2002, from 9 a.m. to 3:30 p.m. These meetings may close early if all business is finished. Written material and requests to make oral presentations should reach the Coast Guard on or before September 25, 2002. Requests to have a copy of your material distributed to each member of the Committee should reach the Coast Guard on or before September 25, 2002.

ADDRESSES: Meetings will be held in room 2415, U.S. Coast Guard Headquarters, 2100 Second Street, SW., Washington, DC. Send written material and requests to make oral presentations to Commander James M. Michalowski, Executive Director of CTAC, Commandant (G-MSO-3), U.S. Coast Guard Headquarters, 2100 Second Street SW., Washington, DC 20593-0001. This notice is available on the Internet at http://dms.dot.gov.

FOR FURTHER INFORMATION CONTACT: Commander James M. Michalowski, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of Meeting on Tuesday, October 8, 2002

(1) Introduction of Committee members and attendees.

(2) Discussion of ways that CTAC can improve work distribution and outreach to the public.

(3) Discussion of steps that can be taken to increase public interest in Committee and subcommittee work.

(4) Discussion of future subcommittee initiatives.

Agenda of Meeting on Wednesday, October 9, 2002

(1) Introduction of Committee members and attendees.

(2) Final reports from the Prevention Through People, Hazardous Substances Response Standards, and Vessel Cargo Tank Overpressurization Subcommittees.

(3) Discussion and vote to establish a new subcommittee on hazardous material marine transportation security.

(4) A presentation by the Coast Guard Research and Development Center on the use of fuel cells in the marine environment.

(5) A presentation by Shell Chemical Company on vessel vetting systems and quality assurance issues.

(6) Update of Coast Guard Regulatory Projects and IMO Activities.

Procedural

These meetings are open to the public. Please note that the meetings may close early if all business is finished. At the discretion of the Chair, members of the public may make oral presentations during the meetings. If you would like to make an oral presentation at a meeting, please notify the Executive Director and submit written material on or before September 25, 2002. If you would like a copy of your material distributed to each member of the Committee in advance of a meeting, please submit 25 copies to the Executive Director (see ADDRESSES) no later than September 25, 2002.

Information on Services for Individuals with Disabilities

For information on facilities or services for individuals with disabilities, or to request special assistance at the meeting, telephone the Executive Director at 202-267-0087 as soon as possible.

Dated: August 7, 2002.
Joseph J. Angelo,
Director of Standards, Marine Safety, Security and Environmental Protection.

[FR Doc. 02-20752 Filed 8-14-02; 8:45 am]

BILLING CODE 4910-15-P